DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Identifying Core Competencies of Peer Workers in Behavioral Health Services (Behavioral Health Services—NEW)

SAMHSA's Center for Mental Health Services' project, Bringing Recovery Supports to Scale Technical Assistance Center Strategy (BRSS TACS) is requesting the Office of Management and Budget's (OMB) approval for a data collection project entitled, “Identifying Core Competencies of Peer Workers in Behavioral Health Services.” The BRSS TACS team intends to use two instruments to collect original data to inform the ongoing development of core competencies for peer workers in behavioral health care services. These instruments are:

• Core Competencies Survey with Peer Workers

• Telephone Interview of Peer Workers

The primary purpose for this information is to appraise the importance of specific competencies to the work of peer workers who are currently employed in behavioral health settings. The Core Competencies Survey will collect peer workers' ratings of the importance of different competencies to their work. The Telephone Interview of Peer Workers will collect peer workers' experiences with and opinions about the competencies on the survey. They will also be asked how they might use the competencies in their work. The Core Competencies Survey and the Telephone Interview are seen as critical to the development of core competencies for peer workers because they integrate the perspective of people who are currently employed as peer workers in the behavioral health care workforce and have been judged as competent by another colleague.

While peer workers have become critical components of recovery-oriented systems, paid peer positions and roles are relatively new additions to the behavioral health workforce. There are basic questions about how to define these roles. There are additional uncertainties about how best to prepare people in recovery for the role of peer worker and how to supervise and evaluate the job performance of peer workers. Developing a set of core competencies is an important step in responding to these questions and may be a valuable activity in expanding peer roles in behavioral health.

Although training programs for peer workers in the behavioral health system have existed for over a decade, there have been no attempts to standardize the content or the models of training. To date, no national consensus defines standards for peer worker training programs. Training programs differ in length, ranging from 30 to 105 hours of face-to-face training and vary widely in the knowledge and skills that they teach trainees (SAMHSA, 2012).

The Core Competency Project will describe the foundational knowledge, skills, and attitudes required by peer workers to perform their roles in a wide variety of behavioral health programs and services. Peer-provided recovery support services typically involve providing social support, linking people to community resources, assisting with decision-making activities, and a host of educational and recreational activities (CSAT, 2009; SAMHSA, 2012). In addition, peer workers facilitate educational and support groups and advocate for service improvements. SAMHSA defines peer-provided recovery support as, “a set of non-clinical, peer-based activities that engage, educate and support an individual successfully to make life changes necessary to recover from disabling mental illness and/or substance use disorder conditions” (CSAT, 2009). While some peer workers are performing advanced or specialized competencies within the behavioral health field, the core competencies described will include the foundational competencies required by all peer workers working in a variety of environments and with a diversity of people.

It is critical to communicate to the behavioral health field and behavioral health authorities about the foundational knowledge, skills, and attitudes needed by peer workers. Because of the anticipated continued demand for peers in the behavioral health workforce, SAMHSA has prioritized the development of peer-delivered recovery support services across mental health and substance use disorder services. In an effort to deliver services of uniformly high quality, the core competencies of peer workers will be described so that states and other credentialing bodies will be able to establish uniform standards for peer workers.

In addition, clear descriptions of core competencies will assist behavioral health authorities with their strategic workforce planning efforts. The description of core competencies will inform services and peer workforce training programs of the basic requirements needed by peer workers in behavioral health services. The competencies will provide guidance to behavioral health programs when writing job descriptions and performances evaluations. In many communities, job descriptions lack uniformity and specificity and do not reflect accurately the focus of peer-provided recovery support services.

The results of these surveys will contribute to the creation of competency descriptions that will provide guidance to organizations, programs, states, and regions to strengthen their peer workforce development efforts. These core competencies will inform training programs and state certification entities about the essential skills, knowledge, and attitudes needed by peer workers in a range of roles in behavioral health services. Currently, 33 states offer certification for their peer workers and a growing number of states use Medicaid funds to reimburse for peer support services (Daniels et al., 2014). Despite the growth of the behavioral health peer workforce; there are inconsistencies in the requirements for these certifications across different states.

For behavioral health organizations and programs, core competencies will provide guidance for job descriptions for peer workers and improve the recruitment of potential workers by providing fair and unbiased criteria for hiring and making sure everyone is assessed against the same framework. Core competency descriptions have the potential to strengthen the workforce through improved training and preparation of peer workers. Behavioral health programs and organizations can use the core competencies to improve performance evaluations by providing a framework to discuss and assess performance.

Core competencies have the potential to contribute to a “culture of competence” in which peer workers could use the competencies to engage in accurate self-assessment and seek out experiences to improve their competencies. For peer workers, core competencies could help to clarify what is expected in their role and will assist them in assessing their own strengths and limitations as a provider of peer support.

At this time, SAMHSA is requesting approval to use these two forms. The forms are described here:

1. Core Competencies Survey: The Core Competencies Survey was developed through an extensive process of literature reviews, synthesis of the competencies, expert panel review, and consensus-building activities. The Core Competencies Survey has 61 items and uses a 5-point Likert scale from 1-unimportant to 5-very important. The items on the survey are specific competencies that were developed by the BRSS TACS team, their partners, and experts in peer-provided services in behavioral health. Respondents to the Core Competencies Survey will also complete a section on demographic characteristics of the participant's gender, age, race/ethnicity, geographic location, level of education, monthly income, length of time as a peer worker, current field of employment, and certification status. Demographic data will be used to describe the survey respondents. The response to the current field of employment question will be used to categorize the respondent as working primarily in addiction services, mental health services, or services for people with co-occurring disorders, a variable that will be included in specific analyses of the data.

2. Peer Worker Telephone Interviews: Peer worker interviews will be conducted by telephone with 20 peer workers to gather descriptive details about the interviewees' use of the core competencies included in the quantitative surveys, their opinions about specific competencies, and their beliefs about the usefulness of articulating core competencies for their peer worker roles. Qualitative interviews may also produce examples of how peer workers use specific competencies.

The information gathered by the Core Competencies Survey and the Peer Worker Telephone Interview will help SAMHSA guide the behavioral health field with workforce development efforts related to peer workers. This information is crucial to providing technical assistance to states, behavioral health organizations, peer-run and recovery community organizations, and organizations and institutions that provide training to peer workers in behavioral health.

The chart below summarizes the annualized burden for this project.

Type of respondent | Number of respondents | Responses per respondent | Total number of responses | Hours per response | Total annual burden hours
Peer workers for interview | 20 | 1 | 20 | 1 | 20
Peer workers for survey | 100 | 1 | 100 | 1 | 200
Total | 120 |  | 120 |  | 220

Send comments to Summer King, SAMHSA Reports Clearance Officer, Room 2-1057, One Choke Cherry Road, Rockville, MD 20857 OR email her a copy at summer.king@samhsa.hhs.gov. Written comments should be received by September 26, 2014.

Summer King,
Statistician.

[FR Doc. 2014-17646 Filed 7-25-14; 8:45 am]

BILLING CODE 4162-20-P